DEPARTMENT OF HEALTH AND HUMAN SERVICES

Centers for Medicare & Medicaid Services

[Document Identifiers: CMS-10391 and 10906]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by March 2, 2026.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment.

1. Type of Information Collection Request: Revision of a currently approved collection; Title of Information Collection: Methods for Assuring Access to Covered Medicaid Services Under 42 CFR 447.203 and 447.204; Use: Sections 447.203 and 447.204 require that states: “assure that payments are consistent with efficiency, economy, and quality of care and are sufficient to enlist enough providers so that care and services are available under the plan at least to the extent that such care and services are available to the general population in the geographic area.” The information is used by states to: document that access to care is in compliance with section 1902(a)(30)(A) of the Social Security Act, identify issues with access within a state's Medicaid program, and inform any necessary programmatic changes to address issues with access to care. CMS will use the information to monitor ongoing compliance with section 1902(a)(30)(A) of the Social Security Act, and to make informed approval decisions on State plan amendments that propose to make Medicaid rate reductions or restructure payment rates. Beneficiaries, providers, and other affected stakeholders may use the information to raise access issues to state Medicaid agencies and work with agencies to address those issues. Form Number: CMS-10391 (OMB control number: 0938-1134); Frequency: Annually; Affected Public: State, Local, or Tribal Governments; Number of Respondents: 51; Total Annual Responses: 346; Total Annual Hours: 15,305. (For questions regarding this collection contact Jocelyn Velez at 410-786-2367.)

2. Type of Information Collection Request: New collection (Request for a new OMB control number); Title of Information Collection: Provider Directory Data for Medicare Plan Finder; Use: Medicare Plan Finder (MPF) is an online tool where current and prospective beneficiaries can explore their Medicare coverage options. On MPF, individuals can shop for Medicare coverage options and make choices based on a variety of search criteria, such as plan benefits, premiums, deductibles, and star ratings. Previously, MPF had not included search capability or information on MA organizations contracted provider networks.

To simplify and streamline the Medicare beneficiary shopping experience, CMS is expanding the existing requirements applicable to MA organizations regarding their provider directories that requires MA organizations to: (1) make the information described in 42 CFR 422.111(b)(3)(i) available to CMS/HHS for publication online in accordance with guidance from CMS/HHS; (2) submit or otherwise make available their plan provider directory data, that is the requirements found under § 422.111(b)(3)(i), available to CMS/HHS in a format, manner, and timeframe determined by CMS/HHS; (3) update the information subject to § 422.111(m) within 30 days of the date an MA organization becomes aware of a change; and (4) attest, in a format and manner and at times determined by CMS/HHS, that all information submitted or otherwise made available to CMS/HHS under paragraph (m) is accurate. Form Number: CMS-10906 (OMB 0938-TBD); Frequency: Once and yearly; Affected Public: Private sector; Number of Respondents: 700; Total Annual Responses: 1,400; Total Annual Hours: 6,300. (For questions regarding this collection contact Jim Canavan at 410-786-5223.)

William N. Parham, III,
Director, Division of Information Collections and Regulatory Impacts, Office of Strategic Operations and Regulatory Affairs.

[FR Doc. 2026-01780 Filed 1-28-26; 8:45 am]

BILLING CODE 4120-01-P